INTERNATIONAL TRADE COMMISSION

[Investigation No. 731-TA-863 (Preliminary)]

Citric Acid and Sodium Citrate From China

Determination

On the basis of the record ¹ developed in the subject investigation, the United States International Trade Commission determines, ² pursuant to section 733(a) of the Tariff Act of 1930 (19 U.S.C. § 1673b(a)), that there is no reasonable indication that an industry in the United States is materially injured or threatened with material injury, or that the establishment of an industry in the United States is materially retarded, by reason of imports from China of citric acid and sodium citrate, provided for in subheadings 2918.1400 and 2918.1510 of the Harmonized Tariff Schedule of the United States, that are alleged to be sold in the United States at less than fair value (LTFV).

¹ The record is defined in sec. 207.2(f) of the Commission's Rules of Practice and Procedure (19 CFR § 207.2(f)).

² Commissioners Jennifer A. Hillman and Stephen Koplan dissenting; Chairman Lynn M. Bragg not participating.

Background

On December 15, 1999, a petition was filed with the Commission and the Department of Commerce by Archer Daniels Midland Co., Decatur, IL; Cargill, Inc., Naperville, IL; and Tate & Lyle Citric Acid, Inc., Decatur, IL, alleging that an industry in the United States is threatened with material injury by reason of LTFV imports of citric acid and sodium citrate from China. Accordingly, effective December 15, 1999, the Commission instituted antidumping duty investigation No. 731-TA-863 (Preliminary).

Notice of the institution of the Commission's investigation and of a public conference to be held in connection therewith was given by posting copies of the notice in the Office of the Secretary, U.S. International Trade Commission, Washington, DC, and by publishing the notice in the Federal Register of December 22, 1999 (64 FR 71831). The conference was held in Washington, DC, on January 5, 2000, and all persons who requested the opportunity were permitted to appear in person or by counsel.

The Commission transmitted its determination in this investigation to the Secretary of Commerce on January 31, 2000. The views of the Commission are contained in USITC Publication 3277 (February 2000), entitled Citric Acid and Sodium Citrate from China: Investigation No. 731-TA-863 (Preliminary).

Issued: February 8, 2000.
By order of the Commission.
Donna R. Koehnke,
Secretary.

[FR Doc. 00-3709 Filed 2-15-00; 8:45 am]

BILLING CODE 7020-02-P